DEPARTMENT OF HEALTH AND HUMAN SERVICES

Indian Health Service

Tribal Self-Governance Program; Negotiation Cooperative Agreement

Announcement Type: New.

Funding Announcement Number: HHS-2008-IHS-TSGP-0001.

Catalog of Federal Domestic Assistance Numbers(s): 93.210.

Key Dates: Application Deadline Date: April 28, 2008.

Review Date: May 8-9, 2008.

Earliest Anticipated Start Date: June 1, 2008.

I. Funding Opportunity Description

The purpose of the program is to award cooperative agreements that provide negotiation resources to Tribes interested in participating in the Tribal Self-Governance Program (TSGP) as authorized by Title V, Tribal Self-Governance Amendments of 2000 of the Indian Self-Determination and Education Assistance Act of Public Law (Pub. L.) 93-638, as amended. There is limited competition under this announcement because the authorizing legislation, Public Law 106-260, Title V, restricts eligibility to Tribes that meet specific criteria (Refer to Section III.l.A., ELIGIBLE APPLICANTS in this announcement). The TSGP is designed to promote self-determination by allowing Tribes to assume more control of Indian Health Service (IHS) programs and services through compacts negotiated with the IHS. The Negotiation Cooperative Agreement provides Tribes with funds to help cover the expenses involved in preparing for and negotiating with the IHS and assists eligible Indian Tribes to prepare Compacts and Funding Agreements (FAs). This program is described at 93.210 in the Catalog of Federal Domestic Assistance (CFDA).

The Negotiation Cooperative Agreement provides resources to assist Indian Tribes to conduct negotiation activities that include but are not limited to:

1. Determine what programs, services, functions, and activities (PSFAs) will be negotiated.

2. Identification of Tribal shares that will be included in the FA.

3. Development of the terms and conditions that will be set forth in the FA.

The award of a Negotiation Cooperative Agreement is not required as a prerequisite to enter the TSGP. Indian Tribes that have completed comparable health planning activities in previous years using Tribal resources but have not received a Tribal self-governance planning award are also eligible to apply.

II. Award Information

Type of Awards: Cooperative Agreement.

Estimated Funds Available: The total amount identified for Fiscal Year (FY) 2008 is $240,000 for approximately twelve (12) Tribes. Awards under this announcement are subject to the availability of funds.

Anticipated Number of Awards: The estimated number of awards under the program to be funded is approximately 12.

Project Period: 12 months.

Award Amount: $20,000 per year.

Programmatic Involvement: IHS TSGP funds will be awarded as cooperative agreements and will have substantial programmatic involvement to establish a process through which Tribes can effectively approach the IHS to identify PSFAs and associated funding that could be incorporated into their programs.

The IHS roles and responsibilities will include:

Providing a description of PSFAs and associated funding at all levels, including funding formulas and methodologies related to determining Tribal shares.

Identification of IHS staff that will consult with applicants on methods currently used to manage and deliver health care.

Provide applicants with statutes, regulations, and policies that provide authority for administering IHS programs, including contract support costs criteria for new or expanded programs.

The Grantee's roles and responsibilities are essential to the overall success of the project.

Therefore the grantee must:

Determine the PSFAs and associated funding the Tribe may elect to assume.

Prepare to discuss each PSFA in comparison to the current level of services provided, so that an informed decision can be made on new program assumption.

Develop a compact and FA to submit to the Agency Lead Negotiator prior to negotiations.

III. Eligibility Information

1. Eligible Applicants

To be eligible for a negotiation cooperative agreement under this announcement, an applicant must meet all of the following criteria:

A. Be a Federally-recognized Tribe as defined in Title V, Public Law 106-260, Tribal Self-Governance Amendments of 2000, of the Indian Self-Determination and Education Assistance Act (ISDA), Public Law 93-638, as amended. However, Alaska Native Villages or Alaska Native Village Corporations are not eligible if they are located within the area served by an Alaska Native regional health entity already participating in ISDA compacting (25 U.S.C. 458aaa-2(e)). Those Tribes not represented by a self-governance Tribal consortium compact, within their area, may still be considered to participate in the TSGP.

2. Cost Sharing or Matching

The Self-Governance Negotiation Cooperative Agreement does not require matching funds or cost sharing to participate in the competitive grant process.

3. Other Requirements

The following documentation is required (if applicable):

A. This program is described at 93.210 in the CFDA.

B. Request participation in self-governance by resolution from the governing body of the Indian Tribe. An Indian Tribe that is proposing a Cooperative Agreement affecting another Indian Tribe must include resolutions from all affected Tribes to be served.

C. Tribal Resolution—A resolution of the Indian Tribe served by the project must accompany the application submission. For Tribal Consortia applying for a Negotiation Cooperative Agreement, individual Tribal Council Resolutions from all individual Tribes whose PSFAs will be compacted must be submitted. Draft resolutions are acceptable in lieu of an official resolution to submit with the application. However, an official signed Tribal resolution must be received by the Division of Grants Operations (DGO), Attn: John Hoffman, 801 Thompson Avenue, TMP 360, Rockville, MD 20852, by Friday, April 25, 2008. If an official signed resolution is not submitted by April 25, 2008 the application will be considered incomplete and will be returned to the applicant without further consideration.

* It is highly recommended that the Tribal resolution be sent by Federal Express for proof of receipt.

D. Demonstrate, for three FYs, financial stability and financial management capability, which is defined as no uncorrected significant and material audit exceptions in the required annual audit of the Indian Tribe's self-determination contracts or self-governance funding agreements with any Federal agency.

E. Grantees are required to submit a current version of the organization's audit report. Audit reports can be lengthy; therefore, the applicants may submit them separately via regular mail by the due date, April 28, 2008. If the grantee determines that the audit reports are not lengthy, the applicants may scan the documents and attach them to the electronic application. While all of the other components of the application will be submitted through www.Grants.gov (Grants.gov), the applicants must submit two copies of the audits that reflect three previous fiscal years under separate cover directly to the Division of Grants Operations, Attn: John Hoffman, 801 Thompson Avenue, TMP 360, Rockville, MD 20852, referencing the Funding Opportunity Number, HHS-2008-IHS-TSGP-0002, as prescribed by Public Law 98-502, the Single Audit Act, as amended (see 0MB Circular A-133, revised June 24, 1997, Audits of States, Local Governments, and Non-Profit Organizations). If this documentation is not submitted with the application by the application receipt date, April 28, 2008, the application will be considered as incomplete and be returned to the applicant without further consideration. Applicants must include the grant tracking number assigned to their electronic submission by Grants.gov and the date submitted via Grants.gov in their cover letter transmitting the required audits for the previous three fiscal years.

If the application budget exceeds the stated dollar amount that is outlined within this announcement, the application will be returned to the applicant without further consideration.

IV. Application and Submission Information

1. Applicant package may be found in Grants.gov or at: http://www.ihs.gov/NonMedicalPrograms/gogp/gogp_funding.asp. Information regarding the electronic application process may be directed to Michelle G. Bulls at (301) 443-6528.

The entire application package is available at: http://www.ihs.gov/NonMedicalPrograms/SelfGovernance/index.cfm?module=planning_negotiation.

Detailed application instructions for this announcement are downloadable on Grants.gov.

2. Content and Form of Application Submission:

Be single spaced.

Be typewritten.

Have consecutively numbered pages.

Use black type not smaller than 12 characters per one inch.

Be printed on one side only of standard size 8½″ x 11″ paper.

Contain a narrative that does not exceed seven typed pages that includes the other submission requirements below. The seven page narrative does not include the work plan, standard forms, Tribal resolutions or letters of support (if necessary), table of contents, budget, budget justifications, narratives, and/or other appendix items.

Public Policy Requirements: All Federal-wide public policies apply to IHS grants with the exception of the Lobbying and Discrimination public policy.

3. Submission Dates and Times:

Applications must be submitted electronically through Grants.gov by 12 midnight Eastern Standard Time (EST). If technical challenges arise and the applicant is unable to successfully complete the electronic application process, the applicant should contact Michelle G. Bulls, Grants Policy Staff (GPS), at least fifteen days prior to the application deadline and advise of the difficulties. The grantee must obtain prior approval, in writing (e-mails are acceptable) allowing the paper submission. If submission of a paper application is requested and approved, the original and two copies may be sent to the appropriate grants contact that is listed in Section IV.1. above. Applications not submitted through Grants.gov, without an approved waiver, may be returned to the applicant without review or consideration. Late applications will not be accepted for processing, will be returned to the applicant, and will not be considered for funding.

4. Intergovernmental Review:

Executive Order 12372 requiring intergovernmental review is not applicable to this program.

5. Funding Restrictions:

A. Only one negotiation cooperative agreement will be awarded per applicant.

B. Each negotiation cooperative agreement shall not exceed $20,000.

C. The available funds are inclusive of direct and appropriate indirect costs.

D. IHS will not acknowledge receipt of applications.

6. Other Submission Requirements:

A. Table of Contents.

B. Abstract (one page)—Summarizes the project.

C. Narrative (no more than 7 pages) and should include the following:

(1) Background information on the Tribe.

(2) Proposed scope of work, objectives, and activities that provide a description of what will be accomplished including a one-page Time Frame Chart.

D. Budget narrative and justification.

E. Tribal Resolution.

F. Appendices to include:

(1) Resumes or position descriptions of key staff.

(2) Contractors/Consultants resumes or qualifications and scope of work.

(3) Current Indirect Cost Agreement.

(4) Organizational Chart (Optional) Abstract (one page)—Summarizes the project.

Electronic Submission—The preferred method for receipt of applications is electronic submission through Grants.gov. However, should any technical challenges arise regarding the submission, please contact Grants.gov Customer Support at 1-800-518-4726 or support@grants.gov. The Contact Center hours of operation are Monday-Friday from 7 a.m. to 9 p.m. EST. If you require additional assistance please call (301) 443-6290 and identify the need for assistance regarding your Grants.gov application. Your call will be transferred to the appropriate grants staff member. The applicant must seek assistance at least fifteen days prior to the application deadline. Applicants that do not adhere to the timelines for Central Contractor Registry (CCR) and/or Grants.gov registration and/or requesting timely assistance with technical issues will not be a candidate for paper applications.

To submit an application electronically, please use http://www.Grants.gov and select “Apply for Grants” link on the home page. Download a copy of the application package on the Grants.gov Web site, complete it offline, and then upload and submit the application via the Grants.gov site. You may not e-mail an electronic copy of a grant application to IHS.

Please be reminded of the following:

Under the new IHS application submission requirements, paper applications are not the preferred method. However, if you have technical problems submitting your application on-line, please directly contact Grants.gov Customer Support at: http://www.grants.gov/CustomerSupport.

Upon contacting Grants.gov obtain a tracking number as proof of contact. The tracking number is helpful if there are technical issues that cannot be resolved and a waiver request from GPS must be obtained.

If it is determined that a formal waiver is necessary, the applicant must submit a request, in writing (e-mails are acceptable), to Michelle.Bulls@ihs.gov that includes a justification for the need to deviate from the standard electronic submission process. Upon receipt of approval, a hard-copy application package must be downloaded by the applicant from Grants.gov, and sent directly to the Division of Grants Operations (DGO), 801 Thompson Avenue, TMP 360, Rockville, MD 20852 by the due date, April 28, 2008.

Upon entering the Grants.gov site, there are application instructions available to applicants under this announcement that outline the requirements of the Grants.gov submission process, as well as the hours of operation. We strongly encourage all applicants not to wait until the deadline date to begin the application process through Grants.gov as the registration process for CCR and Grants.gov could take up to fifteen working days.

To use Grants.gov, you, as the applicant, must have a DUNS Number and register in the CCR. You should allow a minimum of ten days working days to complete CCR registration. See below on how to apply.

You must submit all documents electronically, including all information typically included on the SF-424 and all necessary assurances and certifications.

Please use the optional attachment feature in Grants.gov to attach additional documentation that may be requested by IHS.

Your application must comply with any page limitation requirements described in the program announcement.

After you electronically submit your application, you will receive an automatic acknowledgment from Grants.gov that contains a Grants.gov tracking number. The Indian Health Service, DGO will retrieve your application from Grants.gov. DGO will not notify applicants that the application has been received.

You may access the electronic application for this program on http://www.Grants.gov.

You may search for the downloadable application package either by the CFDA number or the Funding Opportunity Number. Both numbers are identified in the heading of this announcement.

The applicant must provide the Funding Opportunity Number: HHS-2008-IHS-TSGP-0001.

E-mail applications will not be accepted under this announcement.

DUNS Number

Applicants are required to obtain a DUNS number from Dun and Bradstreet to apply for a grant or cooperative agreement from the Federal Government. The DUNS number is a nine-digit identification number, which uniquely identifies business entities. Obtaining a DUNS number is easy and there is no charge. To obtain a DUNS number, access http://www.dunandbradstreet.com or call 1-866-705-5711. Interested parties may wish to obtain their DUNS number by phone to expedite the process.

Applications submitted electronically must also be registered with the CCR. A DUNS number is required before CCR registration can be completed. Many organizations may already have a DUNS number. Please use the number listed above to investigate whether or not your organization has a DUNS number. Registration with the CCR is free of charge.

Applicants may register by calling 1-888-227-2423. Please review and complete the CCR Registration Worksheet located on http://www.grants.gov/CCRRegister.

More detailed information regarding these registration processes can be found at http://www.grants.gov.

V. Application Review Information

The instructions for preparing the application narrative also constitute the evaluation criteria for reviewing and scoring the application. Weights assigned to each section are noted in parentheses.

1. Criteria

Demonstration of Previous Planning Activities (30 points)

Has the Indian Tribe determined the PSFAs to be assumed? Has the Indian Tribe determined it has the administrative infrastructure to support the assumption of the PSFAs? Are the results of what was learned or is being learned during the planning process clearly stated?

Thoroughness of Approach (25 points)

Is a specific narrative provided regarding the direction the Indian Tribe plans to take in the TSGP? How will the Tribe demonstrate improved health and services to the community it serves? Are proposed time lines for negotiations indicated?

Project Outcome (25 points)

What beneficial contributions are expected or anticipated for the Tribe? Is information provided on the services that will be assumed? What improvements will be made to manage the health care system? Are Tribal needs discussed in relation to the proposed programmatic alternatives and outcomes which will serve the Tribal community?

Administrative Capabilities (20 points)

Does the Indian Tribe clearly demonstrate knowledge and experience in the operation and management of health programs? Is the internal management and administrative infrastructure of the applicant described?

Appendix Items

Work plan for proposed objectives. Position descriptions for key staff. Resumes of key staff that reflect current duties. Consultant proposed scope of work (if applicable). Indirect Cost Agreement. Organizational chart (optional). Audits.

2. Review and Selection Process

In addition to the above criteria/requirements, applications are considered according to the following:

A. Application Submission (Application Deadline: April 28, 2008). Applications submitted in advance of or by the deadline and verified by the tracking number will undergo a preliminary review to determine that:

The applicant and proposed project type is eligible in accordance with this cooperative agreement announcement.

The application is not a duplication of a previously funded project.

The application narrative, forms, and materials submitted meet the requirements of the announcement allowing the review panel to undertake an in-depth evaluation; otherwise, it may be returned.

B. Competitive Review of Eligible Applications (Objective Review: May 8-9, 2008). Applications meeting eligibility requirements that are complete, responsive, and conform to this program announcement will be reviewed for merit by the Objective Review Committee (ORC) appointed by the IHS to review and make recommendations on these applications. The review will be conducted in accordance with the IHS Objective Review Guidelines. The technical review process ensures selection of quality projects in a national competition for limited funding. Applications will be evaluated and rated on the basis of the evaluation criteria listed in Section V.1. The criteria are used to evaluate the quality of a proposed project, determine the likelihood of success, and assign a numerical score to each application. The scoring of approved applications will assist the IHS in determining which proposals will be funded if the amount of TSGP funding is not sufficient to support all approved applications. Applications recommended for approval, having a score of 60 or above by the ORC are forwarded to the DGO for cost analysis and further recommendation. The program official forwards the approval list to the IHS Director for final review and approval. Applications scoring below 60 points will be disapproved.

Note: In making final selections, the IHS Director will consider the ranking factors and the status of the applicant's single audit reports. The comments from the ORC will be advisory only. The IHS Director will make the final decision on awards.

VI. Award Administration Information

1. Award Notices.

The Notice of Award (NoA) will be initiated by the DGO and will be mailed via postal mail to each entity that is approved for funding under this announcement. The NoA will be signed by the Grants Management Officer and this is the authorizing document under which funds are dispersed to the approved entities. The NoA will serve as the official notification of the grant award and will reflect the amount of Federal funds awarded the purpose of the grant, the terms and conditions of the award, the effective date of the award, and the budget/project period. The NoA is the legally binding document. Applicants who are approved but unfunded or disapproved based on their Objective Review score will receive a copy of the Final Executive Summary which identifies the weaknesses and strengths of the application submitted. Any other correspondence announcing to the Project Director that an application was selected is not an authorization to begin performance.

2. Administrative Requirements.

Cooperative Agreements are administered in accordance with the following documents:

This Program Announcement.

Program Regulations, 42 CFR Part 136.101 et seq., 45 CFR Part 92, “Uniform Administrative Requirements for Grants and Cooperative Agreements to State, Local and Tribal Governments,” or 45 CFR Part 74, “Uniform Administrative Requirements for Awards to Institutions of Higher Education, Hospitals, Other Non-Profit Organizations, and Commercial Organizations.”

Grants Policy Guidance: HHS Grants Policy Statement, January 2007.

Cost Principles: 0MB Circular A-87, “Cost Principles for State, Local, and Indian Tribal Governments” (Title 2 Part 225).

Administrative Requirements: 0MB Circular A-122, “Non-Profit Organizations” (Title 2 Part 230).

Audit Requirements: 0MB Circular A-133, “Audits of States, Local Governments, and Non-Profit Organizations.”

3. Indirect Costs.

This section applies to all grant recipients that request reimbursement of indirect costs in their grant application. In accordance with HHS Grants Policy Statement, Part II-27, IHS requires applicants to have a current indirect cost rate agreement in place prior to award. The rate agreement must be prepared in accordance with the applicable cost principles and guidance as provided by the cognizant agency or office. A current rate means the rate covering the applicable activities and the award budget period. If the current rate is not on file with the Division of Grants Operations at the time of award, the indirect cost portion of the budget will be restricted and not available to the recipient until the current rate is provided to DGO.

Generally, indirect costs rates for IHS grantees are negotiated with the Division of Cost Allocation (DCA) http://rates.psc.gov/ and the Department of Interior (National Business Center) http://www,nbc.gov/acquisition/ics/icshome.htrnl. If your organization has questions regarding the indirect cost policy, please contact the DGO at 301-443-5204 or Grants Policy Staff at 301-443-6290.

4. Reporting.

A. Progress Report. Program progress reports are required semi-annually. These reports must be submitted within 30 days of the end of the half year and will include a brief comparison of actual accomplishments to the goals established for the period, or, if applicable, provide sound justification for the lack of progress, and other pertinent information as required. A final report must be submitted within 90 days of expiration of the budget/project period.

B. Financial Status Report. Semi-annual financial status reports must be submitted within 30 days of the end of the half year. Final financial status reports are due within 90 days of expiration of the budget/project period. Standard Form 269 (long form) will be used for financial reporting. The final SF-269 must be verified from the grantee's records on how the value was derived. Grantees must submit reports in a reasonable period of time.

Failure to submit required reports within the time allowed may result in suspension or termination of an active cooperative agreement, withholding of additional awards for the project, or other enforcement actions such as withholding of payments or converting to the reimbursement method of payment. Continued failure to submit required reports may result in one or both of the following: (1) The imposition of special award provisions; and (2) the non-funding or non-award of other eligible projects or activities. This applies whether the delinquency is attributable to the failure of the grantee organization or the individual responsible for preparation of the reports.

5. Telecommunication for the hearing impaired is available at: TTY 301-443-6394.

VII. Agency Contact(s)

1. Questions on the programmatic issues may be directed to: Matt Johnson, Policy Analyst Office of Tribal Self-Governance Telephone No.: 301-443-7821 Fax No.: 301-443-1050 E-mail: matthew.johnson@ihs,gov.

2. Questions on grants management and fiscal matters may be directed to: John Hoffman, Grants Management Specialist Division of Grants Operations Telephone No.: 301-443-5204 Fax No.: 301-443-9602 E-mail: john.hoffman2@ihs.gov.

VIII. Other Information

The Public Health Service (PHS) strongly encourages all cooperative agreement and contract recipients to provide a smoke-free workplace and promote the non use of all tobacco products. In addition, Public Law 103-227, the Pro-Children Act of 1994, prohibits smoking in certain facilities (or in some cases, any portion of the facility) in which regular or routine education, library, day care, health care or early childhood development services are provided to children. This is consistent with the PHS mission to protect and advance the physical and mental health of the American people.

Dated: March 24, 2008.
Robert G. McSwain,
Acting Director, Indian Health Service.

[FR Doc. E8-6428 Filed 3-28-08; 8:45 am]

BILLING CODE 4165-16-M